DEPARTMENT OF HEALTH AND HUMAN SERVICES

Centers for Disease Control and Prevention

[Docket No. CDC-2025-0651]

Draft Infection Control in Healthcare Personnel: Epidemiology and Control of Selected Infections Transmitted Among Healthcare Personnel and Patients: Conjunctivitis Section

AGENCY: Centers for Disease Control and Prevention (CDC), Department of Health and Human Services (HHS).

ACTION: Notice with comment period.

SUMMARY: The Centers for Disease Control and Prevention (CDC) in the Department of Health and Human Services (HHS) announces the opening of a docket to obtain comment on the Draft Infection Control in Healthcare Personnel: Epidemiology and Control of Selected Infections Transmitted Among Healthcare Personnel and Patients: Conjunctivitis Section (“Draft Guideline”). The Draft Guideline includes updates to the Guideline for infection control in health care personnel, 1998 (“1998 Guideline”), Part E: Epidemiology and Control of Selected Infections Transmitted Among Health Care Personnel and Patients, and its corresponding recommendations in Part II of the 1998 Guideline: “2. Conjunctivitis.” The updated recommendations in the Draft Guideline are intended for use by the leaders and staff of Occupational Health Services (OHS), as further provided herein. These updated recommendations will help facilitate the provision of occupational infection prevention and control services to healthcare personnel (HCP) who have been exposed or infected and may be contagious to others in the workplace.

DATES: Written comments must be received on or before February 9, 2026.

ADDRESSES: You may submit comments, identified by Docket No. CDC-2025-0651 by either of the methods listed below. Do not submit comments by email. CDC does not accept comments by email.

• Federal eRulemaking Portal: http://www.regulations.gov. Follow the instructions for submitting comments.

• Mail: Prevention and Response Branch, Division of Healthcare Quality Promotion, Centers for Disease Control and Prevention, 1600 Clifton Road NE, Mailstop H16-3, Atlanta, Georgia 30329, Attn: Docket Number CDC-2025-0651.

Instructions: All submissions received must include the agency name and Docket Number. All relevant comments received will be posted without change to http://regulations.gov, including any personal information provided. For access to the docket to read background documents or comments received, go to http://www.regulations.gov.

FOR FURTHER INFORMATION CONTACT: Laura Wells, Prevention and Response Branch, Division of Healthcare Quality Promotion, Centers for Disease Control and Prevention, 1600 Clifton Road NE, Mailstop H16-3, Atlanta, Georgia 30329; Telephone: (404) 639-4000.

SUPPLEMENTARY INFORMATION:

Public Participation

Interested persons or organizations are invited to participate by submitting written views, recommendations, and data related to the Draft Guideline.

Please note that comments received, including attachments and other supporting materials, are part of the public record and are subject to public disclosure. Comments will be posted on https://www.regulations.gov. Therefore, do not include any information in your comment or supporting materials that you consider confidential or inappropriate for public disclosure. If you include your name, contact information, or other information that identifies you in the body of your comments, that information will be on public display. CDC will review all submissions and may choose to redact, or withhold, submissions containing private or proprietary information such as Social Security numbers, medical information, inappropriate language, or duplicate/near duplicate examples of a mass-mail campaign. Do not submit comments by email. CDC does not accept comment by email.

Background

The Draft Guideline, located in the “Supporting & Related Material” tab of the docket, includes updates to the Guideline for infection control in health care personnel, 1998, Part E: Epidemiology and Control of Selected Infections Transmitted Among Health Care Personnel and Patients, and its corresponding recommendations in Part II of the 1998 Guideline: “2. Conjunctivitis.” The 1998 Guideline provided information and recommendations for Occupational Health Services (OHS) of healthcare facilities and systems on the prevention of transmission of infectious diseases among HCP and patients and can be found at https://stacks.cdc.gov/view/cdc/11563.

As described in the Executive Summary of Part I of this guideline (https://www.cdc.gov/infection-control/hcp/healthcare-personnel-infrastructure-routine-practices/executive-summary.html), in this document, “OHS” is used synonymously with “Employee Health,” “Employee Health Services,” “Employee Health and Safety,” “Occupational Health,” and other such programs. OHS refers to the group, department, or program that addresses many aspects of health and safety in the workplace for HCP, including the provision of clinical services for work-related injuries, exposures, and illnesses. In healthcare settings, OHS addresses workplace hazards including communicable diseases; slips, trips, and falls; patient handling injuries; chemical exposures; HCP burnout; and workplace violence.

The Draft Guideline, once finalized, is intended for use by the leaders and staff of OHS to guide the management of exposed or infected HCP who may be contagious to others in the workplace. The draft recommendations in the Draft Guideline provide current guidance on the management of HCP exposed to or infected with conjunctivitis, focusing on postexposure management, including postexposure prophylaxis, for exposed HCP and work restrictions for exposed or infected HCP.

Beginning in 2015, the Healthcare Infection Control Practices Advisory Committee (HICPAC) worked with national partners, academicians, public health professionals, healthcare providers, and other partners to develop Infection Control in Healthcare Personnel (Part I: https://www.cdc.gov/infection-control/hcp/healthcare-personnel-infrastructure-routine-practices/index.html; Part II: https://www.cdc.gov/infection-control/hcp/healthcare-personnel-epidemiology-control/index.html) as a segmental update of the 1998 Guideline. HICPAC, now terminated, was a federal advisory committee appointed to provide advice and guidance to HHS and CDC regarding the practice of infection control and strategies for surveillance, prevention, and control of healthcare-associated infections, antimicrobial resistance, and related events in United States healthcare settings. HICPAC included representatives from public health, infectious diseases, regulatory and other federal agencies, professional societies, and other stakeholders. HICPAC reviewed and voted to approve the draft recommendations in the Draft Guideline prior to being terminated. Additional information on HICPAC's input into the update of the Infection Control in Healthcare Personnel Guideline can be found in the Methods Appendix included in the “Supporting & Related Material” tab of the docket.

The updated draft recommendations in the Draft Guideline are informed by reviews of the 1998 Guideline; CDC resources (e.g., CDC infection control website), guidance, and guidelines, as noted more specifically in the draft document; and new scientific evidence, when available. A Methods Appendix for Infection Control in Healthcare Personnel: Epidemiology and Control of Selected Infections Transmitted Among Healthcare Personnel and Patients (https://www.cdc.gov/infection-control/hcp/healthcare-personnel-epidemiology-control/index.html) is included in the “Supporting & Related Material” tab of the docket. This information is being provided as supporting material, and CDC is not seeking comments on the Methods Appendix. The Draft Guideline, once finalized, will be the next section to be posted to the Infection Control in Healthcare Personnel website.

CDC is seeking comments on the Draft Guideline. Please provide references to new evidence and justification to support any suggested revisions or additions. After comments received are considered and addressed, the final recommendations will be published on CDC's website here: https://www.cdc.gov/infection-control/hcp/healthcare-personnel-epidemiology-control/index.html. The final recommendations will also be posted to docket CDC-2025-0651 at www.regulations.gov.

Noah Aleshire,
Chief Regulatory Officer, Centers for Disease Control and Prevention.

[FR Doc. 2025-22539 Filed 12-10-25; 8:45 am]

BILLING CODE 4163-18-P